DEPARTMENT OF COMMERCE

National Oceanic and Atmospheric Administration

[RTID 0648-XA143]

Endangered Species; File No. 20314

AGENCY: National Marine Fisheries Service (NMFS), National Oceanic and Atmospheric Administration (NOAA), Commerce.

ACTION: Notice; receipt of application for a permit modification.

SUMMARY: Notice is hereby given that the U.S. Fish and Wildlife Service, Virginia Fisheries Field Office, 11110 Kimages Road, Charles City, VA 23030 (Responsible Party: Albert Spells), has requested a modification to scientific research Permit No. 20314.

DATES: Written, telefaxed, or email comments must be received on or before May 29, 2020.

ADDRESSES: The modification request and related documents are available for review by selecting “Records Open for Public Comment” from the Features box on the Applications and Permits for Protected Species (APPS) home page, https://apps.nmfs.noaa.gov, and then selecting File No. 20314-04 from the list of available applications. These documents are also available upon written request or by appointment in the Permits and Conservation Division, Office of Protected Resources, NMFS, 1315 East-West Highway, Room 13705, Silver Spring, MD 20910; phone: (301) 427-8401; fax: (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Malcolm Mohead or Erin Markin, (301) 427-8401.

SUPPLEMENTARY INFORMATION: The subject modification to Permit No. 20314, issued on March 29, 2017 (82 FR 16996), is requested under the authority of the Endangered Species Act of 1973, as amended (16 U.S.C. 1531 et seq.) and the regulations governing the taking, importing, and exporting of endangered and threatened species (50 CFR parts 222-226).

Permit No. 20314 authorizes the permit holder to conduct scientific research on Atlantic sturgeon to identify the overall health of the Chesapeake Bay discreet population segment, monitor reproductive success, spawning adult and juvenile abundance in tributaries, and evaluate movement patterns and habitat preferences in and between tributaries of the Chesapeake Bay. Sampling gear includes anchored/floating gillnets and trawl nets. After capture, fish are externally tagged, tissue sampled, measured, and weighed prior to release. A subset of fish are fin ray sampled and internally tagged with acoustic devices. Early life stages of Atlantic sturgeon are lethally collected to document occurrence of spawning in river systems. Up to two Atlantic sturgeon juvenile and one adult/sub-adult life stages may unintentionally die during research annually. Due to an increase in the abundance of juvenile year classes of Atlantic sturgeon in the James River and to accommodate improvements in population abundance and index estimates, the permit holder is requesting an increase in the numbers of this juvenile life stage that may be captured, marked, measured, weighed, photoed, and released from 100 to 500 animals, annually. The permit expires March 31, 2027.

Dated: April 23, 2020.
Julia Marie Harrison,
Chief, Permits and Conservation Division, Office of Protected Resources, National Marine Fisheries Service.

[FR Doc. 2020-09034 Filed 4-28-20; 8:45 am]

BILLING CODE 3510-22-P